DEPARTMENT OF HEALTH AND HUMAN SERVICES

Administration for Children and Families

[OMB No.: 0970-0440]

Proposed Information Collection Activity; Comment Request; Job Search Assistance (JSA) Strategies Evaluation—Extension; Withdrawal

ACTION: Notice; withdrawal.

SUMMARY: On January 16, 2018 the Administration for Children and Families (ACF) published a Federal Register Notice for a Proposed Information Collection Activity; Comment Request; Job Search Assistance (JSA) Strategies Evaluation-Extension (OMB 0970-0440). The Notice incorrectly allowed for a 60-day comment period instead of a 30-day comment period and had an incorrect location for where comments should be sent. ACF is withdrawing this notice from the Federal Register and will publish a corrected document.

DATES: The notice published January 16, 2018 at 83 FR 2162 is withdrawn as of January 22, 2018.

For additional information, please email OPREinfocollection@acf.hhs.gov, Attn: OPRE Reports Clearance Officer.

Mary Jones,
ACF/OPRE Certifying Officer.

[FR Doc. 2018-00902 Filed 1-19-18; 8:45 am]

BILLING CODE 4184-09-P